DEPARTMENT OF THE TREASURY

Internal Revenue Service

26 CFR Part 1

[REG-163113-02]

RIN 1545-BB71

Estate, Gift, and Generation-Skipping Transfer Taxes; Restrictions on Liquidation of an Interest; Correction

AGENCY: Internal Revenue Service (IRS), Treasury.

ACTION: Correction to notice of proposed rulemaking.

SUMMARY: This document contains a correction to a notice of proposed rulemaking (REG-163113-02) that was published in the Federal Register on Thursday, August 4, 2016 (81 FR 51413). The proposed regulations concern the valuation of interests in corporations and partnerships for estate, gift, and generation-skipping transfer tax purposes.

DATES: Written or electronic comments and outlines of topics to be discussed at the public hearing scheduled for December 1, 2016, for the notice of proposed rulemaking at 81 FR 51413, August 4, 2016, are still being accepted and must be received by November 2, 2016.

ADDRESSES: Send submissions to CC:PA:LPD:PR (REG-163113-02), Room 5203, Internal Revenue Service, P.O. Box 7604, Ben Franklin Station, Washington, DC 20044. Submissions may be hand delivered Monday through Friday between the hours of 8 a.m. and 4 p.m. to CC:PA:LPD:PR (REG-163113-02), Courier's desk, Internal Revenue Service, 1111 Constitution Avenue NW., Washington, DC 20224, or sent electronically, via the Federal eRulemaking Portal at www.regulations.gov (IRS REG-163113-02).

FOR FURTHER INFORMATION CONTACT: John D. MacEachen, at (202) 317-6859 (not a toll-free number).

SUPPLEMENTARY INFORMATION:

Background

The notice of proposed rulemaking that is the subject of this document is under section 2704 of the Internal Revenue Code.

Need for Correction

As published, the notice of proposed rulemaking (REG-163113-02) contains an error that is misleading and is in need of clarification.

Correction to Publication

Accordingly, the notice of proposed rulemaking, that is the subject of FR Doc. 2016-18370, is corrected as follows:

1. On page 51418, in the third column, under the paragraph heading “Effective Dates”, in the second line from the top of the paragraph, the language “proposed to be effective on and after the” is corrected to read “proposed to be effective on the”.

Martin V. Franks,
Chief, Publications and Regulations Branch, Legal Processing Division, Associate Chief Counsel, (Procedure and Administration).

[FR Doc. 2016-23957 Filed 10-3-16; 8:45 am]

BILLING CODE 4830-01-P